FEDERAL MARITIME COMMISSION

Ocean Transportation Intermediary License Applicants

Notice is hereby given that the following applicants have filed with the Federal Maritime Commission an application for a license as a Non-Vessel-Operating Common Carrier (NVO) and/or Ocean Freight Forwarder (OFF)—Ocean Transportation Intermediary (OTI) pursuant to section 19 of the Shipping Act of 1984 as amended (46 U.S.C. Chapter 409 and 46 CFR 515). Notice is also hereby given of the filing of applications to amend an existing OTI license or the Qualifying Individual (QI) for a license.

Interested persons may contact the Office of Transportation Intermediaries, Federal Maritime Commission, Washington, DC 20573.

Allen Lund Company, Inc. (NVO & OFF), 4529 Angeles Crest Highway, Suite 300, La Canada, CA 91011, Officers: Ernest V. Valdez, Vice President of International (Qualifying Individual), David A. Lund, President/COB, Application Type: QI Change.

BestOcean Worldwide Logistics, Inc. (OFF & NVO), 1300 Valley Vista Drive, Suite 203, Diamond Bar, CA 91765, Officers: Xiao Chun Li, Vice President (Qualifying Individual), Yan Yang, CEO, Application Type: New NVO & OFF License.

Cargologic USA LLC (NVO & OFF), 182-16 149th Road, #212, Springfield Gardens, NY 11413, Officers: Donald L. Crummet, Jr., Vice President (Qualifying Individual), Alex Epshteyn, President, Application Type: New NVO & OFF License.

Concept Cargo Freight & Logistic Inc (NVO), 8952 NW 24 Terrace, Doral, FL 33172, Officers: Marcos A. Bacan, President (Qualifying Individual), Milton A. Rocha, Vice President/Treasurer/Secretary, Application Type: New NVO License.

Finlay's International Shipping and Trade, Inc. (NVO), 2745 1st Place, Baldwin, NY 11510, Officer: Wendy A. Finlay, President (Qualifying Individual), Application Type: New NVO License.

Kesco Logistics, Inc. (NVO), 156-15 146th Avenue, Jamaica, NY 11434, Officers: Geoffrey Tice, President (Qualifying Individual), Cyndia Chan, Secretary/Treasurer, Application Type: New NVO License.

Muches Global Industries Inc. (NVO & OFF), 10535 Rockley Road, #104, Houston, TX 77099, Officers: Asinobi O. Amadi, President (Qualifying Individual), Queen Amadi, Vice President, Application Type: New NVO & OFF License.

Nelcon Cargo Corp. (NVO), 1970 NW 82nd Avenue, Miami, FL 33126, Officers: Xenia Perez, President/Vice President/Treasurer, Nydia Bermudez, Secretary (Qualifying Individuals), Application Type: QI Change.

Realco Transporation Group USA, Inc. (NVO), 370 Amapola Avenue, Suite 108, Torrance, CA 90501, Officers: Karen Cheng, Secretary (Qualifying Individual), Raymond Tu, Chairman/Director, Application Type: New NVO License,

United Marine Lines, L.L.C. (NVO), 201 Sevilla Avenue, #309, Coral Gables, FL 33134, Officers: Eduardo Del Riego, Manager (Qualifying Individual), Robert Boucek, Vice President/Treasurer, Application Type: New NVO License.

Dated: August 20, 2010.
Karen V. Gregory,
Secretary.

[FR Doc. 2010-21157 Filed 8-24-10; 8:45 am]

BILLING CODE P